NATIONAL SCIENCE FOUNDATION

Committee Management Renewals

The NSF management officials having responsibility for three advisory committees listed below have determined that renewing these groups for another two years is necessary and in the public interest in connection with the performance of duties imposed upon the Director, National Science Foundation (NSF), by 42 U.S.C. 1861 et seq. This determination follows consultation with the Committee Management Secretariat, General Services Administration.

Committees:

Advisory Committee for Environmental Research and Education, #9487

Proposal Review Panel for Industrial Innovations and Partnerships, #28164

Proposal Review Panel for Emerging Frontiers and Multidisciplinary Activities #34558

Applicable date for renewal is March 2, 2020. For more information, please contact Crystal Robinson, NSF, at (703) 292-8687.

Dated: March 2, 2020.
Crystal Robinson,
Committee Management Officer.

[FR Doc. 2020-04503 Filed 3-4-20; 8:45 am]

BILLING CODE 7555-01-P